TENNESSEE VALLEY AUTHORITY

Environmental Assessment or Environmental Impact Statement—Proposed Commercial and Recreational Developments on the Muscle Shoals and Wilson Dam Reservations, Colbert and Lauderdale Counties, AL

AGENCY: Tennessee Valley Authority (TVA).

ACTION: Notice of intent.

SUMMARY: This notice is provided in accordance with the Council on Environmental Quality's regulations (40 CFR parts 1500 to 1508), section 106 of the National Historic Preservation Act and its implementing regulations (36 CFR part 800), and TVA's procedures implementing the National Environmental Policy Act. TVA will prepare an Environmental Assessment (EA) or an Environmental Impact Statement (EIS) on alternatives for commercial and recreational development requested by local governments in the jurisdictions surrounding TVA property in the Shoals area of northwestern Alabama (Colbert County, city of Florence, Lauderdale County, city of Muscle Shoals, city of Sheffield, and city of Tuscumbia). The local governments have requested that TVA make available 263 hectares (650 acres) of federal property on the Muscle Shoals Reservation and 6 ha (15 acres) of federal property on the Wilson Dam Reservation for their use in constructing a hotel, conference center, and golf course development. The project would be funded by the Retirement System of Alabama (RSA), a state agency, and the local governments.

DATES: Comments on the scope of the environmental review must be received on or before February 25, 2002.

ADDRESSES: Written comments should be sent to Jon M. Loney, Manager, NEPA Administration, Environmental Policy and Planning, Tennessee Valley Authority, 400 West Summit Hill Drive, Knoxville, Tennessee 37902-1499.

FOR FURTHER INFORMATION CONTACT: Harold M. Draper, NEPA Specialist, Environmental Policy and Planning, Tennessee Valley Authority, 400 West Summit Hill Drive, WT 8C, Knoxville, Tennessee 37902-1499; telephone (865) 632-6889 or e-mail hmdraper@tva.gov.

SUPPLEMENTARY INFORMATION: TVA acquired control of the Muscle Shoals and Wilson Dam reservation properties, consisting of about 1229 hectares (3036 acres), from the U.S. War Department in 1933. During the past few years, TVA has received a variety of proposals for development and use of the two reservation properties by nonfederal entities. Local governments have been interested in promoting regional economic development and have provided TVA with several concepts for evaluation. In 1996, TVA prepared a land plan to identify portions of the two reservations that could be made available to non-federal entities for development. The land plan contemplated that TVA would reserve the majority of the property for the agency's own use, but would make available limited property for regional development. TVA subsequently made available a site for construction of a chamber of commerce headquarters for the region on the Wilson Dam Reservation, and a site for commercial development at the junction of two major streets on the Muscle Shoals Reservation.

In 2001, responding to a local government request to invest in the Shoals region. RSA proposed to partially fund construction of a first class hotel, conference center, and 36-hole golf course, as part of an Alabama tourism development effort called the Robert Trent Jones Golf Trail. The hotel, conference center, and golf course would be constructed on TVA land. In addition, an existing city park, known as Florence Veterans Park and now used for a campground and for dispersed day uses, would be converted to a zoo, water theme park, marina, and other improvements. Under the terms of the easement to the City of Florence for the Florence Veterans Park, TVA approval also would be needed for the Veterans Park improvements. Finally, a “river heritage trail” would be developed on the north side of the Tennessee River. Because TVA has received a unified request from the local governments and the request supports regional development goals, TVA has decided to evaluate the Shoals proposal in more detail. Although detailed concept plans have not yet been presented to TVA, the agency is providing early notice of the proposal to facilitate the identification of issues to be addressed and the development of alternatives to be assessed in the environmental review. The alternatives to be analyzed have not been developed at this time, but at a minimum involve no action, full or partial development of the 665 acres specifically requested by the local governments, and other potential sites. The property proposed for the golf course is now available to the public for dispersed recreational use, including foot and bicycle trails and a picnic area. The property proposed for the hotel and conference center is now open space on the north side of Wilson Dam.

Based on the results of the previous public interaction for projects on the Muscle Shoals and Wilson Reservations, TVA anticipates that the EA or EIS will include discussion of the potential effects of alternatives on the following resources: visual resources, cultural resources, threatened and endangered species, terrestrial ecology, wetlands, recreation, water quality, aquatic ecology, and socioeconomics.

TVA is interested in receiving additional comments on the issues to be addressed. Written comments on the scope of the environmental review should be received on or before February 25, 2002.

TVA will begin by developing an EA for the proposed project. In the event that information gathered or analyses conducted in preparing this EA indicate that the proposal could have a significant impact on the environment, the agency will prepare an EIS. If TVA decides to prepare an EIS, the scoping process now underway for the EA will be used for the EIS and will not be repeated.

TVA will hold public meetings to provide more information and to receive comments on the Shoals proposals the week of February 11, 2002. Times, locations, and places will be announced in local newspapers, and may be obtained by contacting the persons listed above.

Dated: January 17, 2002.
Kathryn J. Jackson,
Executive Vice President, River System Operations & Environment.

[FR Doc. 02-1840 Filed 1-24-02; 8:45 am]

BILLING CODE 8120-08-P